DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The Health Education Assistance Loan (HEAL)

Program: Regulatory Requirements—(OMB No. 0915-0108)—Revision

This clearance request is for revision of approval for the notification, reporting and recordkeeping requirements in the HEAL program to insure that the lenders, holders and schools participating in the HEAL program follow sound management procedures in the administration of federally-insured student loans. While the regulatory requirements are approved under this OMB number, some of the burden associated with the regulations is cleared under the OMB numbers for the HEAL forms used to report required information (listed below). The table listed at the end of this notice contains the estimate of burden for the remaining regulations.

Annual Response Burden for the following regulations is cleared by OMB when the reporting forms are cleared:

OMB Approval No. 0915-0034, Lender's Application, Borrower Status, Loan Transfer, Contract for Loan Insurance

Reporting

42 CFR 60.31(a), Lender annual application.

42 CFR 60.38(a), Loan Reassignment.

Notification

42 CFR 60.12(c)(1), Borrower deferment.

OMB Approval No. 0915-0036, Lender's Application for Insurance Claim

Reporting

42 CFR 60.35(a)(2), Lender skip-tracing activities.

42 CFR 60.40(a), Lender documentation to litigate a default.

42 CFR 60.40(c)(i), (ii), and (iii), Lender default claim.

42 CFR 60.40(c)(2), Lender death claim.

42 CFR 60.40(c)(3), Lender disability claim.

42 CFR 60.40(c)(4), Lender report of student bankruptcy.

OMB Approval No. 0915-0043, Repayment Schedule, Call Report

Notification

42 CFR 60.11(e), Establishment of repayment terms-borrower.

42 CFR 60.11(f)(5), Borrower notice of supplemental repayment agreement.

42 CFR 60.34(b)(1), Establishment of repayment terms-lender.

OMB Approval No. 0915-0204, Physicians Certification of Permanent and Total Disability

Reporting

42 CFR 60.39(b)(2), Holder request to Secretary to determine borrower disability.

OMB Approval No. 0915-227, Refinancing Application/Promissory Note

42 CFR 60.33(e), Executed application and note to borrower.

The estimate of burden for the regulatory requirements of this clearance are as follows:

Reporting Requirements
Number of respondents | Number of transactions per respondent | Total transactions | Time per response (hours) | Total burden hours
22 Lenders | 7 | 161 | 0.7 | 116
200 Schools | 7 | 139 | 0.2 | 23
Total Reporting |  |  |  | 139

Notification Requirements
Number of respondents | Number of transactions per respondent | Total transactions | Time per response (hours) | Total burden hours
22 Lenders | 11,271 | 247,958 | 0.2 | 46,293
200 Schools | 30 | 5,956 | 0.3 | 1,988
20,639 Borrowers | 1 | 20,639 | 0.2 | 3,440
Total Notification |  |  |  | 51,721

Recordkeeping Requirements
Number of respondents | Number of transactions per respondent | Total transactions | Time per response (hours) | Total burden hours
22 Lenders | 4,929 | 128,169 | 0.2 | 28,993
200 Schools | 768 | 101,639 | 0.1 | 14,437
Total Recordkeeping |  |  |  | 43,430

Total Annual Burden: 95,290 Hrs.

Written comments and recommendations concerning the proposed information collection should be sent within 30 days of this notice to: John Morrall, Human Resources and Housing Branch, Office of Management and Budget, New Executive Office Building, Room 10235, Washington, DC 20503.

Dated: October 2, 2000.
Jane Harrison,
Director, Division of Policy Review and Coordination.

[FR Doc. 00-25812 Filed 10-6-00; 8:45 am]

BILLING CODE 4160-15-P